NUCLEAR REGULATORY COMMISSION

Advisory Committee on Reactor Safeguards; Revised

The agenda for the 487th ACRS meeting scheduled to be held on November 8-10, 2001, has been revised to reflect the changes noted below. Notice of this meeting was previously published in the Federal Register on Tuesday, October 23, 2001 (66 FR 53645).

FRIDAY, NOVEMBER 9, 2001

• The Committee will meet with NRC Commissioner McGaffigan between 1:30 and 2:30 p.m. to discuss items of mutual interest.

• Discussion of other items (Future ACRS Activities/Report of the Planning and Procedures Subcommittee, Reconciliation of ACRS Comments and Recommendations, Topics for Meeting the NRC Commissioners, and Proposed ACRS Reports) will be held about an hour later than previously announced in the Federal Register on October 23, 2001.

The agenda for Thursday, November 8 and Saturday, November 10, 2001 remains the same as previously announced in the Federal Register on October 23, 2001.

For further information contact: Dr. Sher Bahadur (telephone 301-415-0138) between 7:30 a.m. and 4:15 p.m., EDT.

Dated: October 23, 2001.
Andrew L. Bates,
Advisory Committee Management Officer.

[FR Doc. 01-27156 Filed 10-26-01; 8:45 am]

BILLING CODE 7590-01-P